DEPARTMENT OF EDUCATION

National Committee on Foreign Medical Education and Accreditation

AGENCY: Office of Postsecondary Education, National Committee on Foreign Medical Education and Accreditation, U.S. Department of Education.

ACTION: Announcement of a Committee meeting.

SUMMARY: The purpose of this notice is to announce the upcoming meeting of the National Committee on Foreign Medical Education and Accreditation (NCFMEA). Parts of this meeting will be open to the public, and the public is invited to attend those portions.

Meeting Date and Place: The meeting will be held on April 21-22, 2016, from 9:00 a.m. until approximately 5:00 p.m. both days, at the Hilton Alexandria Old Town, 1767 King Street, Alexandria, VA 22314. The Committee will meet in Executive Session on April 22, 2016. The entire April 22nd session will be devoted to training sessions for the Committee; and, therefore, is closed to the public.

FOR FURTHER INFORMATION CONTACT: Jennifer Hong, Executive Director for the NCFMEA, U.S. Department of Education, 400 Maryland Avenue SW., Room 6W250, Washington, DC 20202; telephone: 202-453-7805, or email: Jennifer.Hong@ed.gov

SUPPLEMENTARY INFORMATION: Statutory Authority and Function: The NCFMEA was established by the Secretary of Education under § 102 of the Higher Education Act of 1965, as amended. The NCFMEA's responsibilities are to:

• Evaluate the standards of accreditation applied to foreign medical schools and,

• Determine the comparability of those standards to standards for accreditation applied to United States medical schools. A determination of comparability of accreditation standards by the NCFMEA is an eligibility requirement for foreign medical schools to participate in the William D. Ford Federal Direct Student Loan Program, 20 U.S.C. 1087a et seq.

Meeting Agenda: The NCFMEA will review the standards of accreditation applied to medical schools to determine whether those standards are comparable to the standards of accreditation applied to medical schools in the United States. The NCFMEA will also review previously requested reports from accrediting entities that accredit medical schools. Discussion of the standards of accreditation will be held in sessions open to the public. Discussions resulting in specific determinations of comparability are closed to the public until proper notification of the NCFMEA's decision is provided to the country and accrediting entity by the Department.

The countries which are scheduled to be discussed are: Australia, Grenada, Pakistan, St. Kitts and Nevis, and the Dominican Republic. The meeting agenda, as well as the staff analyses pertaining to the meeting, will be posted on the Department of Education's Web site prior to the meeting at http://www2.ed.gov/about/bdscomm/list/ncfmea.html.

Reasonable Accommodations: The meeting site is accessible to individuals with disabilities. If you will need an auxiliary aid or service to participate in the meeting (e.g., interpreting service, assistive listening device, or materials in an alternate format), notify the contact person listed in this notice by April 1, 2016, although we will attempt to meet a request received after that date.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: § 102 of the Higher Education Act of 1965, as amended.

Lynn B. Mahaffie,
Deputy Assistant Secretary for Planning, Policy and Innovation, delegated the duties of Assistant Secretary for Postsecondary Education.

[FR Doc. 2016-06837 Filed 3-24-16; 8:45 am]

BILLING CODE 4000-01-P